DEPARTMENT OF HEALTH AND HUMAN SERVICES

National Institutes of Health

Public Comment Period Extension for the Final Supplementary Risk Assessment for the Boston University (BU) National Emerging Infectious Diseases Laboratories (NEIDL)

SUMMARY: A Notice of Availability for the Final Supplementary Risk Assessment for the Boston University (BU) National Emerging Infectious Diseases Laboratories (NEIDL) was published in the Federal Register on July 6, 2012. Upon the publication of the Notice of Availability, a required comment period of at least 30 day began in which the National Institutes of Health would accept and consider comments from the public on the final supplementary risk assessment. This comment period was set to end on August, 6, 2012. In order to provide the public with additional time to review and comment on the final supplementary risk assessment, the National Institutes of Health (NIH) has decided to extend the public comment period for the final supplementary risk assessment until August 24, 2012.

ADDRESSES: Written comments on the final supplementary risk assessment must be postmarked no later than August 24, 2012. Comments should be sent to The National Institutes of Health, Office of Biotechnology Activities, Attn: NEIDL Risk Assessment, 6705 Rockledge Drive, Suite 750, Bethesda, Maryland, 20892. Email comments should be sent to NIH_BRP@od.nih.gov. Please note that comments sent by email must be received by 11:59 p.m. on the last day of the comment period, August 24, 2012.

FOR FURTHER INFORMATION CONTACT: National Institutes of Health Office of Biotechnology Activities, 6705 Rockledge Drive, Suite 750, Bethesda, Maryland, 20892. Telephone number: (301) 496-9838. Electronic mail address: NIH_BRP@od.nih.gov.

Availabilty of Copies and Electronic Access: Copies of the Final Supplementary Risk Assessment for the Boston University National Emerging Infectious Diseases Laboratory and the accompanying reader's guide may be obtained at no cost by calling (301) 496-9838, or by emailing requests to NIH_BRP@od.nih.gov. The documents are also available electronically at: http://nihblueribbonpanel-bumc-neidl.od.nih.gov/default.asp.

A copy of the final supplementary risk assessment and the reader's guide has also been made available for review at each of the following locations: Central Branch of the Boston Public Library, 700 Boylston Street, Boston, MA; South End Library, 685 Tremont Street, Boston, MA; Grove Hall Library, 42 Geneva Avenue; and Dudley Library, 65 Warren Street, Boston, MA.

Dated: July 18, 2012.
Ryan T. Bayha,
Science Policy Analyst, Office of Science Policy, National Institutes of Health.

[FR Doc. 2012-18026 Filed 7-20-12; 8:45 am]

BILLING CODE 4140-01-P